DEPARTMENT OF TRANSPORTATION

Federal Aviation Administration

Notice of Permanent Closure of Grove Hill Municipal Airport (3A0), Grove Hill, Alabama

AGENCY: Federal Aviation Administration, DOT.

ACTION: Notice of permanent closure of Grove Hill Municipal Airport (3A0) and removal from the National Plan of Integrated Airport Systems (NPIAS).

SUMMARY: The Federal Aviation Administration (FAA) received written notice, dated November 26, 2019, from the Town of Grove Hill Alabama requesting the permanent closure of Grove Hill Municipal Airport (3A0) and the removal of the airport from the NPIAS. The FAA hereby publishes the intent of the Town of Grove Hill's notice of permanent closure of Grove Hill Municipal Airport in accordance with U.S.C. 46319(b).

DATES: The permanent closure of the airport is effective as of December 28, 2019.

FOR FURTHER INFORMATION CONTACT: Graham Coffelt, Program Manager, Jackson Airports District Office, 100 West Cross Street, Suite B, Jackson, MS 39208-2307, (601) 664-9886. The closure request may be reviewed in person at this same location.

SUPPLEMENTARY INFORMATION: Grove Hill Municipal Airport is a single runway, general aviation airport located in Southwest Alabama and is an unobligated and unclassified NPIAS airport. On November 26, 2019, The Town of Grove Hill, Alabama, sponsor of Grove Hill Municipal Airport (3A0), informed the FAA of its intent to finalize the closure. Section 46319 of Title 49 of the United States Code [49 U.S.C. 46319] provides that a public agency (as defined in 49 U.S.C. 47102) may not permanently close an airport listed in the national plan of integrated airport systems under 49 U.S.C. 47103 without providing written notice to the Administrator of the FAA at least 30 days before the date of the closure. The FAA recognizes the letter received November 26, 2019 from the Town of Grove Hill meets that requirement. The FAA is publishing the Town of Grove Hill's notice of permanent closure of Grove Hill Municipal Airport in accordance with 49 U.S.C. 46319(b). Questions may be directed to the individual named above under the heading, FOR FURTHER INFORMATION CONTACT.

Issued in Jackson, Mississippi on December 10, 2019.
Rans D. Black,
Manager, Jackson Airports District Office, Southern Region.

[FR Doc. 2020-00934 Filed 1-21-20; 8:45 am]

BILLING CODE 4910-13-P